DEPARTMENT OF TRANSPORTATION

Federal Aviation Administration

14 CFR Part 47

Cape Town Treaty Implementation

AGENCY: Federal Aviation Administration (FAA), DOT.

ACTION: Final rule; technical amendment.

SUMMARY: This final rule corrects a previously published rule. In the original document, an amendment inadvertently removed two paragraphs relating to the registration of certain aircraft. This rule reinstates those two paragraphs in their original form.

DATES: This rule is effective September 26, 2008.

FOR FURTHER INFORMATION CONTACT: Walter Binkley, Civil Aviation Registry, AFS-750, Mike Monroney Aeronautical Center, 6500 South MacArthur Boulevard, Oklahoma City, OK 73169; Telephone (405) 954-3131.

SUPPLEMENTARY INFORMATION:

Background

On January 3, 2005, FAA published a final rule revising the regulations concerning registering aircraft and recording security documents (70 FR 245). These revisions were required by the Cape Town Treaty Implementation Act of 2004. The Cape Town Treaty established a new International Registry for registering interests against certain aircraft and aircraft engines. The rule also made unrelated technical changes to other portions of the regulations.

One of the technical changes affected 14 CFR 47.35. The amendment should have revised paragraph (a) introductory text, in order to revise an outdated reference to an Act. However, the entire paragraph (a) was inadvertently revised, which resulted in the loss of paragraphs (a)(1) and (a)(2). The information in paragraphs (a)(1) and (a)(2) was still necessary and should have remained in the section.

Technical Amendment

This technical amendment merely reinstates paragraphs (a)(1) and (a)(2) to 14 CFR 47.35. The text of these paragraphs remains as it was at the time of their inadvertent removal.

Justification for Immediate Adoption

Because this action reinstates paragraphs that were never intended to be removed, the FAA finds that notice and public comment under 5 U.S.C. 553(b) is unnecessary. For the same reason, the FAA finds that good cause exists under 5 U.S.C. 553(d) for making this rule effective upon publication.

List of Subjects in 14 CFR Part 47

Aircraft, Reporting and recordkeeping requirements.

The Amendment

In consideration of the foregoing, the Federal Aviation Administration amends Chapter I of Title 14, Code of Federal Regulations, part 47, as follows:

PART 47-AIRCRAFT REGISTRATION

1. The authority citation for part 47 continues to read as follows:

Authority: 4 U.S.T. 1830; Pub. L. 108-297, 118 Stat. 1095 (49 U.S.C. 40101 note, 49 U.S.C. 44101 note); 49 U.S.C. 106(g), 40113-40114, 44101-44108, 44110-44113, 44703-44704, 44713, 45302, 46104, 46301.

2. Amend § 47.35 by adding paragraphs (a)(1) and (a)(2) to read as follows:

§ 47.35 Aircraft last previously registered in the United States.

(a) * * *

(1) If the applicant bought the aircraft from the last registered owner, the conveyance must be from that owner to the applicant.

(2) If the applicant did not buy the aircraft from the last registered owner, he must submit conveyances or other instruments showing consecutive transactions from the last registered owner through each intervening owner to the applicant.

* * * * *

Issued in Washington, DC, on September 22, 2008.
Pamela Hamilton-Powell,
Director, Office of Rulemaking.

[FR Doc. E8-22586 Filed 9-25-08; 8:45 am]

BILLING CODE 4910-13-P